INTERNATIONAL TRADE COMMISSION

[Investigation No. 337-TA-1260]

Notice of Institution of Investigation; Certain Toner Supply Containers and Components Thereof (II)

AGENCY: U.S. International Trade Commission.

ACTION: Notice.

SUMMARY: Notice is hereby given that a complaint was filed with the U.S. International Trade Commission on March 8, 2021, under section 337 of the Tariff Act of 1930, as amended, on behalf of Canon Inc. of Japan; Canon U.S.A., Inc. of Melville, New York; and Canon Virginia, Inc. of Newport News, Virginia. A supplement was filed on March 26, 2021. The complaint, as supplemented, alleges violations of section 337 based upon the importation into the United States, the sale for importation, and the sale within the United States after importation of certain toner supply containers and components thereof by reason of infringement of certain claims of U.S. Patent No. 10,209,667 (“the '667 patent”); U.S. Patent No. 10,289,060 (“the '060 patent”); U.S. Patent No. 10,289,061 (“the '061 patent”); U.S. Patent No. 10,295,957 (“the '957 patent”); U.S. Patent No. 10,488,814 (“the '814 patent”); U.S. Patent No. 10,496,032 (“the '032 patent”); U.S. Patent No. 10,496,033 (“the '033 patent”); U.S. Patent No. 10,514,654 (“the '654 patent”): U.S. Patent No. 10,520,881 (“the '881 patent”); U.S. Patent No. 10,520,882 (“the '882 patent”); U.S. Patent No. 8,565,649 (“the '649 patent”); U.S. Patent No. 9,354,551 (“the '551 patent”); and U.S. Patent No. 9,753,402 (“the '402 patent”). The complaint further alleges that an industry in the United States exists as required by the applicable Federal Statute. The complainants request that the Commission institute an investigation and, after the investigation, issue a general exclusion order, or in the alternative a limited exclusion order, and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Pathenia M. Proctor, The Office of Unfair Import Investigations, U.S. International Trade Commission, telephone (202) 205-2560.

SUPPLEMENTARY INFORMATION:

Authority: The authority for institution of this investigation is contained in section 337 of the Tariff Act of 1930, as amended, 19 U.S.C. 1337, and in section 210.10 of the Commission's Rules of Practice and Procedure, 19 CFR 210.10 (2020).

Scope of Investigation: Having considered the complaint, the U.S. International Trade Commission, on April 7, 2021, ordered that—

(1) Pursuant to section 210.10(a)(6) of the Commission's Rules of Practice and Procedure, 19 CFR 210.10(a)(6), two separate investigations be instituted based on the complaint to further efficient adjudication, one of which is instituted by this notice of investigation.

(2) Pursuant to subsection (b) of section 337 of the Tariff Act of 1930, as amended, an investigation be instituted to determine whether there is a violation of subsection (a)(1)(B) of section 337 in the importation into the United States, the sale for importation, or the sale within the United States after importation of certain products identified in paragraph (3) by reason of infringement of one or more of claims 1, 2, 6, 7, 12, 25, and 26 of the '649 patent; claims 1-7 of the '551 patent; and claims 1, 15-18, 22, 23, 25-27, 32, 36, 37, 39-41, and 46 of the '402 patent; and whether an industry in the United States exists as required by subsection (a)(2) of section 337;

(3) Pursuant to section 210.10(b)(1) of the Commission's Rules of Practice and Procedure, 19 CFR 210.10(b)(1), the plain language description of the accused products or category of accused products, which defines the scope of the investigation, is “certain toner supply containers and components thereof that are sold as replacements for Canon toner supply containers used in Canon copy machines”;

(4) For the purpose of the investigation so instituted, the following are hereby named as parties upon which this notice of investigation shall be served:

(a) The complainant is:

Canon Inc., 30-2, Shimomaruko 3-chome, Ohta-ku, Tokyo 146-8501, Japan

Canon U.S.A., Inc., One Canon Park, Melville, New York 11747

Canon Virginia, Inc., 12000 Canon Boulevard, Newport News, Virginia 23606

(b) The respondents are the following entities alleged to be in violation of section 337, and are the parties upon which the complaint is to be served:

Sichuan XingDian Technology Co., Ltd., 23B/24A, East Building, New Century Computer Mall, Wuhou District, Chengdu, Sichuan, China 610041

Sichuan Wiztoner Technology Co., Ltd., No.2666, 4th Section of Konggang Road, Southwest Airlines Economic Development, Zone Chengdu, Sichuan, China 610200

Anhuiyatengshangmaoyouxiangongsi, Xiaokoucun, Haitouzhen, Ganyuqu, China 222002

ChengDuXiangChangNanShiYouSheBeiYouXianGongSi, ShaWanLu63Ha0;Hao1Dong2DanYuan5Lou1HaoFu7Hao, JinNiuQu, ChengDuShi, SiChuanSheng, China 610000

Digital Marketing Corporation d/b/a Digital Buyer Marketing Company, 155 W. Washington Blvd., Suite 306, Los Angeles, California 90015

Do It Wiser LLC d/b/a Image Toner, 3422 Old Capitol Trail, #747, Wilmington, Delaware 19808

Hefeierlandianzishangwuyouxiangongsi, Xuefushequhuanchengdongluyiduan193 195ha, Piduqutuanjiezhen, Chengdushi, China 610000

Shenzhenshi Keluodeng Kejiyouxiangognsi, Yangguanghuayuan 6dong601, Bujijiedao, Longgangqu, Shenzhen, Guangdong, China 518112

MITOCOLOR INC., 18351 Colima Road, Suite A #2810, Rowland Heights, California 91748

Xianshi yanliangqu canqiubaihuodianshanghang, Yanliangqu XinhualujiedaobanbeizhushichangX-572, Xianshi, Shanxisheng, China 710089

Zhuhai Henyun Image Co., Ltd., No. 76, Nanping Technology Industrial Park, Xiangzhou District, Zhuhai, China 519000

(c) The Office of Unfair Import Investigations, U.S. International Trade Commission, 500 E Street SW, Suite 401, Washington, DC 20436; and

(4) For the investigation so instituted, the Chief Administrative Law Judge, U.S. International Trade Commission, shall designate the presiding Administrative Law Judge.

Responses to the complaint and the notice of investigation must be submitted by the named respondent in accordance with section 210.13 of the Commission's Rules of Practice and Procedure, 19 CFR 210.13. Pursuant to 19 CFR 201.16(e) and 210.13(a), as amended in 85 FR 15798 (March 19, 2020), such responses will be considered by the Commission if received not later than 20 days after the date of service by the complainant of the complaint and the notice of investigation. Extensions of time for submitting responses to the complaint and the notice of investigation will not be granted unless good cause therefor is shown.

Failure of the respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: April 7, 2021.
Lisa Barton,
Secretary to the Commission.

[FR Doc. 2021-07543 Filed 4-12-21; 8:45 am]

BILLING CODE 7020-02-P